DEPARTMENT OF ENERGY

10 CFR Parts 429 and 430

[EERE-2018-BT-TP-0004]

Energy Conservation Program: Test Procedures for Cooking Products, Notice of Petition for Rulemaking

AGENCY: Office of Energy Efficiency and Renewable Energy, Department of Energy (DOE).

ACTION: Notification of petition for rulemaking; reopening of the public comment period.

SUMMARY: This document reopens the public comment period for submitting comments, data and information on the Association of Home Appliance Manufacturers (AHAM) petition to withdraw the conventional cooking top test procedure published on April 25, 2018. The public comment period closed on June 25, 2018 and is reopened for 21 days until July 19, 2018.

DATES: DOE is reopening the comment period for AHAM's petition to withdraw the cooking top test procedure published on April 25, 2018 (83 FR 17944). Submit comments July 19, 2018.

ADDRESSES: Interested persons are encouraged to submit comments, identified by “Test Procedure Cooking Products Petition,” by any of the following methods:

Federal eRulemaking Portal: http://www.regulations.gov. Follow the instructions for submitting comments.

Email: CookProducts2018TP0004@ee.doe.gov. Include the docket number EERE-2018-BT-TP-0004 in the subject line of the message.

Mail: Appliance and Equipment Standards Program, U.S. Department of Energy, Building Technologies Office, Mailstop EE-5B, 1000 Independence Avenue SW, Washington, DC, 20585-0121, identified by docket number EERE-2018-BT-TP-0004. If possible, please submit all items on a compact disc (CD), in which case it is not necessary to include printed copies.

Hand Delivery/Courier: Appliance and Equipment Standards Program, U.S. Department of Energy, Building Technologies Office, 950 L'Enfant Plaza SW, Suite 600, Washington, DC 20024. Telephone: (202) 586-6636. If possible, please submit all items on a CD, in which case it is not necessary to include printed copies.

Docket: For access to the docket to read background documents, or comments received, go to the Federal eRulemaking Portal at http://www.regulations.gov.

FOR FURTHER INFORMATION CONTACT: Celia Sher, U.S. Department of Energy, Office of the General Counsel, 1000 Independence Avenue SW, Washington, DC 20585. Email: Celia.Sher@hq.doe.gov; (202) 287-6122.

SUPPLEMENTARY INFORMATION: On April 25, 2018, the U.S. Department of Energy (DOE) published a petition from AHAM requesting that DOE reconsider its final rule on Test Procedures for Cooking Products, Docket No. EERE-2012-BT-TP-0013, RIN 1904-AC71, 81 FR 91418 (Dec. 16, 2016) (Final Rule). In the petition, AHAM requested that DOE undertake rulemaking to withdraw the cooking top test procedure, while maintaining the repeal of the oven test procedure that was part of the Final Rule. 83 FR 17944. The notice of petition provided for the written submission of comments by June 25, 2018. AHAM requested an extension of the public comment period to allow additional time for AHAM and its members to provide data responsive to DOE's detailed inquiries regarding the petition. For the same reason, GE Appliances also requested an extension of the comment period.

DOE has determined that an extension of the public comment period is appropriate to allow interested parties additional time to submit comments for DOE's consideration. Thus, DOE is reopening the comment period by 21 days, until July 19, 2018. DOE will consider any comments received by midnight of July 19, 2018 to be timely submitted.

Signed in Washington, DC, on June 22, 2018.
Kathleen B. Hogan,
Deputy Assistant Secretary for Energy Efficiency, Energy Efficiency and Renewable Energy.

[FR Doc. 2018-13927 Filed 6-27-18; 8:45 am]

BILLING CODE 6450-01-P